INTERNATIONAL BOUNDARY AND WATER COMMISSION, UNITED STATES AND MEXICO

Notice of Availability of a Draft Environmental Assessment and Finding of No Significant Impact for Environmental Assessment: Non-Native Plant Control and Re-Establishment of Riparian Habitats Along the Rio Grande on U.S. International Boundary and Water Commission (USIBWC) and Bureau of Land Management (BLM) Lands in Seldon Canyon, Doña Ana County, NM

AGENCY: United States Section, International Boundary and Water Commission, United States and Mexico.

ACTION: Notice of Availability of the Draft Environmental Assessment (EA) and Finding of No Significant Impact (FONSI).

SUMMARY: Pursuant to Section 102(2)(c) of the National Environmental Policy Act of 1969; the Council on Environmental Quality Final Regulations (40 CFR parts 1500 through 1508); and the United States Section, Operational Procedures for Implementing Section 102 of NEPA, published in the Federal Register September 2, 1981, (46 FR 44083); the United States Section hereby gives notice that the Draft Environmental Assessment and Finding of No Significant Impact for Non-native Plant Control and Re-establishment of Riparian Habitats Along the Rio Grande on U.S. International Boundary and Water Commission and Bureau of Land Management Lands are available. An environmental impact statement will not be prepared unless additional information which may affect this decision is brought to our attention within 30-days from the date of this Notice.

FOR FURTHER INFORMATION CONTACT: Gilbert Anaya, Division Chief, Environmental Management Division; United States Section, International Boundary and Water Commission; 4171 N. Mesa, C-100; El Paso, Texas 79902. Telephone: (915) 832-4702, email: Gilbert.Anaya@ibwc.gov.

Background: This proposed project would be part of a regional initiative to restore the form and function of the Rio Grande floodplain that has been undertaken by other Federal, State, and non government organizations. The overarching goals of the project are to improve the ecosystem integrity within the project area by shifting conditions to match those that historically existed. This project will focus on restoring 31.35 acres divided between two tracts of federal lands (25.85 ac USIBWC and 5.5 ac BLM) from salt cedar to native riparian habitats by utilizing validated mechanical and chemical control methods to remove and control salt cedar.

Availability: Electronic copies of the Draft EA and FONSI are available from the USIBWC Home Page: http://www.ibwc.gov/Organization/Environmental/EIS_EA_Public_Comment.html.

Dated: January 17, 2012.
Steven Fitten,
General Counsel.

[FR Doc. 2012-1359 Filed 1-23-12; 8:45 am]

BILLING CODE 7010-01-P